DEPARTMENT OF HEALTH AND HUMAN SERVICES

National Institutes of Health

National Cancer Institute; Amended Notice of Meeting

Notice is hereby given of a change in the meeting of the National Cancer Institute Special Emphasis Panel, June 17, 2002, 8 a.m. to June 19, 2002, 6 p.m., Washington Terrace Hotel, 1515 Rhode Island Avenue, NW., Washington, DC, 20005 which was published in the Federal Register on April 24, 2002, 67 FR 20143.

The meeting location has been changed to the Wyndham Washington Hotel. The meeting is closed to the public.

Dated: June 18, 2002.
LaVerne Y. Stringfield,
Director, Office of Federal Advisory Committee Policy.

[FR Doc. 02-16069 Filed 6-25-02; 8:45 am]

BILLING CODE 4140-01-M